DEPARTMENT OF AGRICULTURE

Office of the Secretary

Notice of Solicitation for Members of the National Agricultural Research, Extension, Education and Economics Advisory Board

AGENCY: Research, Education and Economics, USDA.

ACTION: Solicitation for membership.

SUMMARY: In accordance with the Federal Advisory Committee Act, 5 U.S.C. App., the United States Department of Agriculture announces solicitation for nominations to fill 10 vacancies on the National Agricultural Research, Extension, Education and Economics Advisory Board.

DATES: Deadline for Advisory Board member nominations is July 17, 2009.

ADDRESSES: The nominee's name, resume, completed Form AD-755, and any letters of support must be sent to the U.S. Department of Agriculture, National Research, Extension, Education, and Economics Advisory Board Office, 1400 Independence Avenue, SW., Room 321-A, Whitten Building; Washington, DC 20250-0321.

FOR FURTHER INFORMATION CONTACT: Karen Hunter, Executive Director, National Agricultural Research, Extension, Education and Economics Advisory Board, 1400 Independence Avenue, SW., Room 321-A, Whitten Building, Washington, DC 20250-0321, telephone: 202-720-8408; fax: 202-720-6199; e-mail: Karen.hunter@ars.usda.gov.

SUPPLEMENTARY INFORMATION: Section 1408 of the National Agricultural Research, Extension, and Teaching Policy Act of 1977 (7 U.S.C. 3123) was amended by the Food, Energy and Conservation Act of 2008 by deleting six members of the National Agricultural Research, Extension, Education and Economics Advisory Board, to total 25 members. Since the inception of the Advisory Board by congressional legislation in 1996, each member has represented a specific category related to farming or ranching, food production and processing, forestry research, crop and animal science, land-grant institutions, non-land grant college or university with a historic commitment to research in the food and agricultural sciences, food retailing and marketing, rural economic development, and natural resource and consumer interest groups, among many others. The Board was first appointed by the Secretary of Agriculture in September 1996 and one-third of its members were appointed for one, two, and three-year terms, respectively to allow for approximately one-third of the Board to change each year. The terms for 10 members who represent specific categories will expire September 30, 2009. Nominations for these 10 vacant categories are sought. All nominees will be carefully reviewed for their expertise, leadership, and relevance to a category. Appointments will be made for two-or three-year terms to maintain the approximate one-third change in membership each year dictated by the original legislation.

The 10 slots to be filled are:

Category A. National Farm Organization.

Category C. Food Animal Commodity Producer.

Category I. National Human Health Association.

Category N. NLGCA Institutions.

Category O. Hispanic-Serving Institutions.

Category Q. Transportation of Food and Agricultural Products to Domestic and Foreign Markets.

Category R. Food Retailing and Marketing Interests.

Category S. Food and Fiber Processors.

Category X. Private Sector Organization Involved in International Development.

Category Y. National Social Science Association.

Nominations are being solicited from organizations, associations, societies, councils, federations, groups, and companies that represent a wide variety of food and agricultural interests throughout the country. Nominations for one individual who fits several of the categories listed above or for more than one person who fits one category will be accepted. In your nomination letter, please indicate the specific membership category for each nominee. Each nominee must fill out, sign, and return a form AD-755, “Advisory Committee Membership Background Information” (which can be obtained from the contact person below or may be printed out from the following Web site: http://www.ree.usda.gov/nareeeab/downloads/forms/AD-755.pdf). All nominees will be vetted before selection.

Nominations are open to all individuals without regard to race, color, religion, sex, national origin, age, mental or physical handicap, marital status, or sexual orientation. To ensure that recommendations of the Advisory Board take into account the needs of the diverse groups served by the Department, membership shall include, to the extent practicable, individuals with demonstrated ability to represent minorities, women, and persons with disabilities.

Appointments to the National Agricultural Research, Extension, Education and Economics Advisory Board will be made by the Secretary of Agriculture.

Done at Washington, DC this 18th day of May 2009.
Katherine Smith,
Acting Deputy Under Secretary, Research, Education, and Economics.

[FR Doc. E9-12819 Filed 6-1-09; 8:45 am]

BILLING CODE 3410-03-P